DEPARTMENT OF AGRICULTURE

Rural Business-Cooperative Service

Notice of a Public Meeting on Administration of the Business and Industry Guaranteed Loan Program and the Section 9006 Renewable Energy Systems and Energy Efficiency Improvements Loan and Grant Program

AGENCY: Rural Business-Cooperative Service, USDA.

ACTION: Notice of public meeting.

SUMMARY: The Rural Business-Cooperative Service (RBS), an agency within the USDA Rural Development Mission area, will hold a public meeting entitled “The Rural Development Lenders Conference.” The purpose of this event is to provide an open forum to solicit feedback on the delivery of the Business and Industry and Section 9006 Renewable Energy Systems and Energy Efficiency Improvement Guaranteed Loan Programs in an effort to be more responsive to our customers.

DATES: The meeting will be held on March 8, 2007. Pre-registration will begin promptly at 8:30 a.m. EST and the program will begin at 9 a.m. and will conclude by 12:30 p.m.

ADDRESSES: 1400 Independence Avenue, SW., Whitten Building, U.S. Department of Agriculture, Washington, DC. Participants should enter the building through the National Mall entrance located on Jefferson Drive. A State or Government-issued valid photo identification (i.e., driver's license) is required for clearance by building security personnel. A Rural Development representative will be available to direct you to the conference room.

Instructions for Participation: Although pre-registration is encouraged, walk-ins will be accommodated to the extent that space permits. Registered participants will be given priority for making presentations prior to walk-ins. Anyone interested in providing feedback to improve program administration is encouraged to attend the public meeting. To register and request time for an oral statement, please visit http://www.rurdev.usda.gov/rbs/busp/rdlendersconf.htm. The deadline for pre-registration is March 5, 2007. Written comments are also encouraged and can be submitted in advance of the public meeting or provided at the meeting. To submit advanced comments by e-mail, send to lenders.conf@wdc.usda.gov. If you have problems accessing the Web site, please send an e-mail to the address above.

The Agency is especially interested in comments on the following topics:

1. Effectiveness of the Agency's outreach activities.

2. Equity requirements. Other ways to achieve the objective.

3. Suggestions for improving, streamlining, or simplifying the application process for these programs.

4. Other recommendations for improving the delivery of these programs.

FOR FURTHER INFORMATION CONTACT: Kenya Nicholas, Business Programs, RBS, Room 6847 South Agriculture Building, Stop 3224, 1400 Independence Avenue, SW., Washington, DC 20250-3224, Telephone: 202-720-1970.

SUPPLEMENTARY INFORMATION: The oral and written information obtained from interested parties will be considered in improving program administration of the Business and Industry Program and the Section 9006 Renewable Energy Systems and Energy Efficiency Improvements Program. In order to assure that these programs are meeting constituent needs, RBS is sponsoring a listening forum and soliciting written comments to encourage public participation in gathering feedback and comments and in making recommendations on program improvement. All comments are welcome.

Those who wish to make oral presentations should restrict their presentation to 10 minutes and are encouraged to have written copies of their complete comments, including exhibits, for inclusion in the Agency record. Those who register their attendance at the meeting, but have not requested in advance to present oral testimony, will be given an opportunity to do so as time permits. Otherwise, the opportunity will be given to submit their views in writing either at or within 15 days of the meeting. Participants who require a sign language interpreter or other special accommodations should contact Kenya Nicholas as directed above.

Dated: February 8, 2007.
Jackie J. Gleason,
Administrator, Rural Business-Cooperative Service.

[FR Doc. E7-2618 Filed 2-14-07; 8:45 am]

BILLING CODE 3410-XY-P